DEPARTMENT OF AGRICULTURE

Notice: Withdrawal

July 26, 2010.

AGENCY: Office of the Assistant Secretary for Civil Rights.

ACTION: Notice: Withdrawal.

SUMMARY: The Department of Agriculture published a document in the Federal Register on July 22, 2010, page number 42678 concerning a request for comments on a new information collection “Independent Assessment of the Delivery of Technical and Financial Assistance” OMB control number 0583-New. The document is being withdrawn.

Ruth Brown,
Departmental Information Collection Clearance Officer.

[FR Doc. 2010-18661 Filed 7-28-10; 8:45 am]

BILLING CODE 3410-11-P